ENVIRONMENTAL PROTECTION AGENCY

40 CFR Part 52

[EPA-R09-OAR-2011-0383; FRL-9427-9]

Revisions to the California State Implementation Plan, Antelope Valley Air Quality Management District

AGENCY: Environmental Protection Agency (EPA).

ACTION: Direct final rule.

SUMMARY: EPA is taking direct final action to approve revisions to the Antelope Valley Air Quality Management District (AVAQMD) portion of the California State Implementation Plan (SIP). These revisions concern negative declarations for volatile organic compound (VOC) source categories for the AVAQMD. We are approving these negative declarations under the Clean Air Act as amended in 1990 (CAA or the Act).

DATES: This rule is effective on August 30, 2011 without further notice, unless EPA receives adverse comments by August 1, 2011. If we receive such comments, we will publish a timely withdrawal in the Federal Register to notify the public that this direct final rule will not take effect.

ADDRESSES: Submit comments, identified by docket number EPA-R09-OAR-2011-0383, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia Allen, EPA Region IX, (415) 947-4120, allen.cynthia@epa.gov.

SUPPLEMENTARY INFORMATION: Throughout this document, “we,” “us” and “our” refer to EPA.

Table of Contents

I. The State's Submittal

A. What negative declarations did the State submit?

B. Are there other versions of these negative declarations?

C. What is the purpose of the submitted negative declarations?

II. EPA's Evaluation and Action

A. How is EPA evaluating the negative declarations?

B. Do the negative declarations meet the evaluation criteria?

C. Public Comment and Final Action

III. Background Information

A. Why were these negative declarations submitted initially?

IV. Administrative Requirements

I. The State's Submittal

A. What negative declarations did the State submit?

Table 1 lists the negative declarations we are approving with the dates that they were adopted by the Antelope Valley Air Quality Management District (AVAQMD) and submitted by the California Air Resources Board (CARB).

Table 1—Antelope Valley Negative Declarations
Local agency | Title | Adopted | Submitted
AVAQMD | Large Appliances, Surface Coating | 09/19/06 | 01/31/07
AVAQMD | Wood Furniture Surface Coating | 09/19/06 | 01/31/07
AVAQMD | Gasoline Bulk Plants | 09/19/06 | 01/31/07
AVAQMD | Equipment Leaks from Natural Gas/Gasoline Processing Plants | 09/19/06 | 01/31/07
AVAQMD | Leaks from Petroleum Refinery Equipment | 09/19/06 | 01/31/07
AVAQMD | Air Oxidation Processes (SOCMI) | 09/19/06 | 01/31/07
AVAQMD | Reactor and Distillation Processes (SOCMI) | 09/19/06 | 01/31/07
AVAQMD | Tank Truck Gasoline Loading Terminals > 76,000 L | 09/19/06 | 01/31/07
AVAQMD | Manufacture of Synthesized Pharmaceutical Products | 09/19/06 | 01/31/07
AVAQMD | Manufacture of Pneumatic Rubber Tires | 09/19/06 | 01/31/07
AVAQMD | Manufacture of High Density Polyethylene, Polypropylene and Polystyrene | 09/19/06 | 01/31/07
AVAQMD | Equipment used in Synthetic Organic Chemical Polymers and Resin Manufacturing | 09/19/06 | 01/31/07
AVAQMD | Refinery Vacuum-Producing Systems, Wastewater Separators and Process Unit Turnarounds | 09/19/06 | 01/31/07
AVAQMD | Magnetic Wire Coating Operations | 09/19/06 | 01/31/07
AVAQMD | Ship Repair Operations | 10/19/10 | 01/07/11
AVAQMD | Storage of Petroleum Liquids in Fixed Roof Tanks | 10/19/10 | 01/07/11
AVAQMD | Petroleum Liquid Storage in External Floating Roof Tanks | 10/19/10 | 01/07/11

On February 8, 2011, EPA determined that the submittal for Antelope Valley AQMD Negative Declarations submitted on January 7, 2011, met the completeness criteria in 40 CFR Part 51, Appendix V, which must be met before formal EPA review.

On July 31, 2007, the submittal for Antelope Valley Negative Declarations submitted on January 31, 2007, was deemed by operation of law to meet the completeness criteria in 40 CFR Part 51, Appendix V, which must be met before formal EPA review.

B. Are there other versions of these negative declarations?

There are no previous versions of these negative declarations.

C. What is the purpose of the submitted negative declarations?

The negative declarations were submitted to meet the requirements of CAA section 182(a)(2)(A). Nonattainment areas are required to adopt volatile organic compound (VOC) regulations for the published Control Techniques Guidelines (CTG) categories. If a nonattainment area does not have stationary sources for which EPA has published a CTG, then the area is required to submit a negative declaration. The negative declarations were submitted because there are no applicable sources within the AVAQMD jurisdiction. EPA's technical support document (TSD) has more information about these negative declarations.

II. EPA's Evaluation and Action

A. How is EPA evaluating the negative declarations?

The negative declarations are submitted as SIP revisions and must be consistent with Clean Air Act requirements for Reasonably Available Control Technology (RACT) (see section 182(a)(2)(A) and SIP relaxation (see sections 110(1) and 193.) To do so, the submittal should provide reasonable assurance that no sources subject to the CTG requirements currently exist or are planned for the AVAQMD.

B. Do the negative declarations meet the evaluation criteria?

We believe these negative declarations are consistent with the relevant policy and guidance regarding RACT and SIP relaxations. The TSD has more information on our evaluation.

C. Public Comment and Final Action

As authorized in section 110(k)(3) of the Act, EPA is fully approving the submitted negative declarations as additional information to the SIP because we believe they fulfill all relevant requirements. We do not think anyone will object to this approval, so we are finalizing it without proposing it in advance. However, in the Proposed Rules section of this Federal Register, we are simultaneously proposing approval of these negative declarations. If we receive adverse comments by August 1, 2011, we will publish a timely withdrawal in the Federal Register to notify the public that the direct final approval will not take effect and we will address the comments in a subsequent final action based on the proposal. If we do not receive timely adverse comments, the direct final approval will be effective without further notice on August 30, 2011.

III. Background Information

A. Why were these negative declarations submitted?

These negative declarations were submitted to fulfill the requirements of CAA Section 182(a)(2)(A). Section 182 requires that ozone nonattainment areas adopt VOC regulations found in the Control Techniques Guidelines Series for all major non-CTG sources of VOC or NOX in their geographic area. Antelope Valley AQMD is a nonattainment area for ozone and thus is required to adopt regulations for all CTG sources and or major non-CTG sources. Section 110(a) of the CAA requires States to submit regulations that control VOC emissions. Table 2 lists some of the national milestones leading to the submittal of these local agency negative declarations.

Table 2—Ozone Nonattainment Milestones
Date | Event
March 3, 1978 | EPA promulgated a list of ozone attainment areas under the Clean Air Act as amended in 1977. 43 FR 8964; 40 CFR 81.305.
May 26, 1988 | EPA notified Governors that parts of their SIPs were inadequate to attain and maintain the ozone standard and requested that they correct the deficiencies (EPA's SIP-Call). See section 110(a)(2)(H) of the pre-amended Act.
November 15, 1990 | Clean Air Act Amendments of 1990 were enacted. Pub. L. 101-549, 104 Stat. 2399, codified at 42 U.S.C. 7401-7671q.
May 15, 1991 | Section 182(a)(2)(A) requires that ozone nonattainment areas correct deficient RACT rules by this date.

IV. Administrative Requirements

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not interfere with Executive Order 12898 (59 FR 7629 (Feb. 16, 1994)) because EPA lacks the discretionary authority to address environmental justice in this rulemaking.

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 30, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see section 307(b)(2)).

List of Subjects in 40 CFR Part 52

Environmental protection, Air pollution control, Incorporation by reference, Intergovernmental relations, Ozone, Reporting and recordkeeping requirements, Volatile organic compounds.

Dated: June 14, 2011.
Jared Blumenfeld,
Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.222 is amended by adding paragraphs (a)(6)(vii) and (viii) to read as follows:

§ 52.222 Negative declarations.

(a) * * *

(6) * * *

(vii) Large Appliances, Surface Coating; Wood Furniture Surface Coating; Gasoline Bulk Plants, Equipment Leaks from Natural Gas/Gasoline Processing Plants; Leaks from Petroleum Refinery Equipment; Air Oxidation Processes (SOCMI); Reactor and Distillation Processes (SOCMI); Tank Truck Gasoline Loading Terminals > 76,000 L; Manufacture of Synthesized Pharmaceutical Products; Manufacture of Pneumatic Rubber Tires; Manufacture of High Density Polyethylene, Polypropylene and Polystyrene; Equipment Used in Synthetic Organic Chemical Polymers and Resin Manufacturing; Refinery Vacuum-Producing Systems, Wastewater Separators and Process Unit Turnarounds; and Magnetic Wire Coating Operations submitted on January 31, 2007 and adopted on September 19, 2006.

(viii) Ship Repair Operations; Storage of Petroleum Liquids in Fixed Roof Tanks; and Petroleum Liquid Storage in External Floating Roof Tanks submitted on January 7, 2011 and adopted on October 19, 2010.

* * * * *

[FR Doc. 2011-16481 Filed 6-30-11; 8:45 am]

BILLING CODE 6560-50-P